ENVIRONMENTAL PROTECTION AGENCY

40 CFR Part 122

EPA Administered Permit Programs: The National Pollutant Discharge Elimination System

CFR Correction

In Title 40 of the Code of Federal Regulations, Parts 100 to 135, revised as of July 1, 2001, § 122.26 is corrected by revising paragraph (c)(1)(i)(E)(4) and removing and reserving paragraph (c)(2) to read as follows:

§ 122.26 Storm water discharges (applicable to State NPDES programs, see § 123.25).

* * * * *

(c) * * *

(1) * * *

(i) * * *

(E) * * *

(4) Any information on the discharge required under § 122.21(g)(7) (vi) and (vii);

* * * * *

(2) [Reserved]

* * * * *

[FR Doc. 02-55502 Filed 1-30-02; 8:45 am]

BILLING CODE 1505-01-D